SMALL BUSINESS ADMINISTRATION

[Disaster Declaration #16216 and #16217; MISSISSIPPI Disaster Number MS-00117]

Presidential Declaration Amendment of a Major Disaster for Public Assistance Only for the State of Mississippi

AGENCY: U.S. Small Business Administration.

ACTION: Amendment 1.

SUMMARY: This is an amendment of the Presidential declaration of a major disaster for Public Assistance Only for the State of Mississippi (FEMA-4470-DR), dated 12/06/2019.

Incident: Severe Storm, Straight-line Winds, and Flooding.

Incident Period: 10/26/2019.

DATES: Issued on 01/08/2020.

Physical Loan Application Deadline Date: 02/04/2020.

Economic Injury (EIDL) Loan Application Deadline Date: 09/08/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of MISSISSIPPI, dated 12/06/2019, is hereby amended to include the following areas as adversely affected by the disaster.

Primary Counties: Chickasaw, Choctaw, Oktibbeha.

All other information in the original declaration remains unchanged.

(Catalog of Federal Domestic Assistance Number 59008)

James Rivera,
Associate Administrator for Disaster Assistance.

[FR Doc. 2020-00519 Filed 1-14-20; 8:45 am]

BILLING CODE 8026-03-P